DEPARTMENT OF TRANSPORTATION

Federal Aviation Administration

14 CFR Part 73

[Docket No. FAA-2003-14184; Airspace Docket No. 02-AWP-12]

RIN 2120-AA66

Amendment of Restricted Area R-2303A and R-2303B, Fort Huachuca, AZ

AGENCY: Federal Aviation Administration (FAA), DOT.

ACTION: Final rule.

SUMMARY: This action amends the designated time of use for Restricted area 2303A (R-2303A) and 2303B (R-2303B), Fort Huachuca, AZ. Specifically, this action amends the designated time of use from “Monday-Friday, 0700-1600 local time; other times by NOTAM at least 24 hours in advance,” to “Monday-Friday, 0700-1700 local time; other times by NOTAM at least 24 hours in advance.” Increased training requirements at Fort Huachuca have resulted in a continued need for restricted airspace usage up to 1700 hours, Monday through Friday. This action will not change the current boundaries or activities conducted in the airspace area.

EFFECTIVE DATE: 0901 UTC, September 4, 2003.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

History

On January 23, 2003, the FAA published in the Federal Register a notice proposing to amend R-2303A and R-2303B (68 FR 3198). Interested parties were invited to participate in this rulemaking effort by submitting written comments on the proposal. No comments were received regarding this rulemaking. Except for editorial changes, this amendment is the same as that proposed in the notice. These rulemaking actions “are necessary in the interest of national defense,” as required under 49 U.S.C. 40103(b)(3)(A).

The Rule

Based on the U.S. Army's request, this action amends Title 14 Code of Federal Regulations (14 CFR) part 73 (part 73) to change the designated time of use for R-2303A and R-2303B. Specifically, this action modifies the designated time of use from “Monday-Friday, 0700-1600 local time; other times by NOTAM at least 24 hours in advance,” to “Monday-Friday, 0700-1700 local time; other times by NOTAM at least 24 hours in advance.” Increased training requirements at Fort Huachuca have resulted in a need for restricted airspace usage up to 1700 hours, Monday through Friday. This action will not change the current boundaries or activities conducted in the airspace area.

Section 73.48 of part 73 of the Federal Aviation Regulations was republished in FAA Order 7400.8K, dated September 26, 2002.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 73

Airspace, Navigation (air).

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.23 [Amended]

2. § 73.23 is amended as follows:

* * * * *

R-2303A, AZ [Amended]

By removing “Time of designation. Monday-Friday, 0700-1600 local time; other times by NOTAM at least 24 hours in advance,” and substituting “Time of designation. Monday-Friday, 0700-1700 local time; other times by NOTAM at least 24 hours in advance.”

R-2303B, AZ [Amended]

By removing “Time of designation. Monday-Friday, 0700-1600 local time; other times by NOTAM at least 24 hours in advance,” and substituting “Time of designation. Monday-Friday, 0700-1700 local time; other times by NOTAM at least 24 hours in advance.”

* * * * *

Issued in Washington, DC, May 6, 2003.
Reginald C. Matthews,
Manager, Airspace and Rules Division.

[FR Doc. 03-11781 Filed 5-12-03; 8:45 am]

BILLING CODE 4910-13-P